DEPARTMENT OF ENERGY

Federal Energy Regulatory Commission

[Docket No. CP01-409-000]

Calypso Pipeline, L.L.C.; Notice of Resource Agency Meeting

November 5, 2001.

On November 14, 2001, the Office of Energy Projects staff will attend a scheduled agency meeting with the Florida Department of Environmental Protection (FDEP), other environmental resource agencies, and representatives of Calypso Pipeline, L.L.C. The purpose of the meeting is to discuss permitting issues for the proposed Calypso Natural Gas Pipeline Project (Docket No. CP01-409-000). The meeting will be held at the FDEP office located at 400 North Congress Avenue, West Palm Beach, Florida.

For additional information, contact the Commission's Office of External Affairs at (202) 208-1088.

David P. Boergers,
Secretary.

[FR Doc. 01-28122 Filed 11-8-01; 8:45 am]

BILLING CODE 6717-01-P